DEPARTMENT OF TRANSPORTATION

Federal Aviation Administration

14 CFR Parts 65, 119, 121, 135, and 142

[Docket No. FAA-2008-0677; Notice No. 08-07A]

RIN 2120-AJ00

Qualification, Service, and Use of Crewmembers and Aircraft Dispatchers; Extension of Comment Period

AGENCY: Federal Aviation Administration (FAA), DOT.

ACTION: Supplemental notice of proposed rulemaking (SNPRM); extension of comment period.

SUMMARY: This action extends the comment period for an SNPRM that was published on May 20, 2011. In that document, the FAA proposed to amend the regulations for crewmember and aircraft dispatcher training programs in domestic, flag, and supplemental operations. This extension is a result of requests for extension of the comment period. One request for extension was from the Air Transport Association of America, Cargo Airline Association, Air Carrier Association of America, Regional Airline Association, National Air Carrier Association, Boeing Company, and Airbus Americas. The second request for extension was from the Air Line Pilots Association. The third request for extension was from the International Air Transport Association.

DATES: The comment period for the SNPRM published on May 20, 2011, was scheduled to close on July 19, 2011, and is extended until September 19, 2011.

ADDRESSES: You may send comments identified by docket number FAA-2008-0677 using any of the following methods:

• Federal eRulemaking Portal: Go to http://www.regulations.gov and follow the online instructions for sending your comments electronically.

• Mail: Send comments to Docket Operations, M-30; U.S. Department of Transportation (DOT), 1200 New Jersey Avenue, SE., Room W12-140, West Building Ground Floor, Washington, DC 20590-0001.

• Hand Delivery or Courier: Take comments to Docket Operations in Room W12-140 of the West Building Ground Floor at 1200 New Jersey Avenue, SE., Washington, DC, between 9 a.m. and 5 p.m., Monday through Friday, except Federal holidays.

• Fax: Fax comments to Docket Operations at 202-493-2251.

Privacy: The FAA will post all comments it receives, without change, to http://www.regulations.gov, including any personal information the commenter provides. Using the search function of the docket Web site, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or Docket Operations in Room W12-140 of the West Building Ground Floor at 1200 New Jersey Avenue, SE., Washington, DC, between 9 a.m. and 5 p.m., Monday through Friday, except Federal holidays.

FOR FURTHER INFORMATION CONTACT: For flightcrew member information contact James K. Sheppard, email: james.k.sheppard@faa.gov; for flight attendant information contact Nancy Lauck Claussen, email: Nancy.l.Claussen@faa.gov; and for aircraft dispatcher information contact Leo D. Hollis, email: Leo.d.Hollis@faa.gov; Air Transportation Division (AFS-200), Flight Standards Service, Federal Aviation Administration, 800 Independence Avenue, SW., Washington, DC 20591; telephone (202) 267-8166. For legal questions, contact Anne Bechdolt, Office of Chief Counsel (AGC-200), Federal Aviation Administration, 800 Independence Avenue, SW., Washington, DC, 20591; email: Anne.Bechdolt@faa.gov; telephone 202-267-3073.

SUPPLEMENTARY INFORMATION:

See the “Additional Information” section for information on how to comment on this proposal and how the FAA will handle comments received. The “Additional Information” section also contains related information about the docket, privacy, the handling of proprietary or confidential business information. In addition, there is information on obtaining copies of related rulemaking documents.

Background

On May 20, 2011, the FAA published Notice No. 08-07A, Qualification, Service, and Use of Crewmembers and Aircraft Dispatchers (76 FR 29336). Comments to that document were to be received on or before July 19, 2011.

In a letter dated May 25, 2011, the Air Transport Association of America, Cargo Airline Association, Air Carrier Association of America, Regional Airline Association, National Air Carrier Association, Boeing Company, and Airbus Americas requested a 180-day extension of the comment period. In a letter dated May 27, 2011, the Air Line Pilots Association requested a 60-day extension of the comment period. In addition, in an undated letter, the International Air Transport Association requested a 180-day extension of the comment period. The petitioners noted that the SNPRM and supporting documents are extensive.

While the FAA concurs with the petitioners' requests for an extension of the comment period on Notice No. 08-07A, it does not support a 180-day extension. The FAA finds that providing an additional 60 days is sufficient for these petitioners to analyze the SNPRM and supporting documents and provide meaningful comment to Notice No. 08-07A.

The FAA does not anticipate any further extension of the comment period for this rulemaking.

Extension of Comment Period

In accordance with § 11.47(c) of title 14, Code of Federal Regulations, the FAA has reviewed the petitions for extension of the comment period to Notice No. 08-07A. These petitioners have shown a substantive interest in the proposed rule and good cause for the extension. The FAA has determined that extension of the comment period is consistent with the public interest, and that good cause exists for taking this action.

Accordingly, the comment period for Notice No. 08-07A is extended until September 19, 2011.

Additional Information

A. Comments Invited

The FAA invites interested persons to participate in this rulemaking by submitting written comments, data, or views. The agency also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The agency may change this proposal in light of the comments it receives.

Proprietary or Confidential Business Information: Do not file proprietary or confidential business information in the docket. Such information must be sent or delivered directly to the person identified in the FOR FURTHER INFORMATION CONTACT section of this document, and marked as proprietary or confidential. If submitting information on a disk or CD-ROM, mark the outside of the disk or CD-ROM, and identify electronically within the disk or CD-ROM the specific information that is proprietary or confidential.

Under 14 CFR 11.35(b), if the FAA is aware of proprietary information filed with a comment, the agency does not place it in the docket. It is held in a separate file to which the public does not have access, and the FAA places a note in the docket that it has received it. If the FAA receives a request to examine or copy this information, it treats it as any other request under the Freedom of Information Act (5 U.S.C. 552). The FAA processes such a request under Department of Transportation procedures found in 49 CFR part 7.

B. Availability of Rulemaking Documents

An electronic copy of rulemaking documents may be obtained from the Internet by—

1. Searching the Federal eRulemaking Portal (http://www.regulations.gov);

2. Visiting the FAA's Regulations and Policies Web page at http://www.faa.gov/regulations_policies or

3. Accessing the Government Printing Office's Web page at http://www.gpoaccess.gov/fr/index.html.

Copies may also be obtained by sending a request to the Federal Aviation Administration, Office of Rulemaking, ARM-1, 800 Independence Avenue, SW., Washington, DC 20591, or by calling (202) 267-9680. Commenters must identify the docket or notice number of this rulemaking.

Issued in Washington, DC, on June 17, 2011.
Dennis R. Pratte,
Acting Director, Office of Rulemaking.

[FR Doc. 2011-15690 Filed 6-22-11; 8:45 am]

BILLING CODE 4910-13-P